FEDERAL TRADE COMMISSION

[File No. 172 3197]

Bollman Hat Company and SaveAnAmericanJob, LLC, Jointly Doing Business as American Made Matters; Analysis To Aid Public Comment

AGENCY: Federal Trade Commission.

ACTION: Proposed consent agreement.

SUMMARY: The consent agreement in this matter settles alleged violations of federal law prohibiting unfair or deceptive acts or practices. The attached Analysis to Aid Public Comment describes both the allegations in the complaint and the terms of the consent order—embodied in the consent agreement—that would settle these allegations.

DATES: Comments must be received on or before February 23, 2018.

ADDRESSES: Interested parties may file a comment online or on paper, by following the instructions in the Request for Comment part of the SUPPLEMENTARY INFORMATION section below. Write: “In the Matter of Bollman Hat Company and SaveAnAmericanJob, LLC, jointly d/b/a American Made Matters, File No. 172 3197” on your comment, and file your comment online at https://ftcpublic.commentworks.com/ftc/bollmanhatconsent by following the instructions on the web-based form. If you prefer to file your comment on paper, write “In the Matter of Bollman Hat Company and SaveAnAmericanJob, LLC, jointly d/b/a American Made Matters, File No. 172 3197” on your comment and on the envelope, and mail your comment to the following address: Federal Trade Commission, Office of the Secretary, 600 Pennsylvania Avenue NW, Suite CC-5610 (Annex D), Washington, DC 20580, or deliver your comment to the following address: Federal Trade Commission, Office of the Secretary, Constitution Center, 400 7th Street SW, 5th Floor, Suite 5610 (Annex D), Washington, DC 20024.

FOR FURTHER INFORMATION CONTACT: Julia Solomon Ensor (202-326-2377) and Crystal Ostrum (202-326-3405), Bureau of Consumer Protection, 600 Pennsylvania Avenue NW, Washington, DC 20580.

SUPPLEMENTARY INFORMATION: Pursuant to Section 6(f) of the Federal Trade Commission Act, 15 U.S.C. 46(f), and FTC Rule 2.34, 16 CFR 2.34, notice is hereby given that the above-captioned consent agreement containing a consent order to cease and desist, having been filed with and accepted, subject to final approval, by the Commission, has been placed on the public record for a period of thirty (30) days. The following Analysis to Aid Public Comment describes the terms of the consent agreement, and the allegations in the complaint. An electronic copy of the full text of the consent agreement package can be obtained from the FTC Home Page (for January 23, 2018), on the World Wide Web, at https://www.ftc.gov/news-events/commission-actions.

You can file a comment online or on paper. For the Commission to consider your comment, we must receive it on or before February 23, 2018. Write “In the Matter of Bollman Hat Company and SaveAnAmericanJob, LLC, jointly d/b/a American Made Matters, File No. 172 3197” on your comment. Your comment—including your name and your state—will be placed on the public record of this proceeding, including, to the extent practicable, on the public Commission website, at https://www.ftc.gov/policy/public-comments.

Postal mail addressed to the Commission is subject to delay due to heightened security screening. As a result, we encourage you to submit your comments online. To make sure that the Commission considers your online comment, you must file it at https://ftcpublic.commentworks.com/ftc/bollmanhatconsent by following the instructions on the web-based form. If this Notice appears at http://www.regulations.gov/#!home, you also may file a comment through that website.

If you prefer to file your comment on paper, write “In the Matter of Bollman Hat Company and SaveAnAmericanJob, LLC, jointly d/b/a American Made Matters, File No. 172 3197” on your comment and on the envelope, and mail your comment to the following address: Federal Trade Commission, Office of the Secretary, 600 Pennsylvania Avenue NW, Suite CC-5610 (Annex D), Washington, DC 20580, or deliver your comment to the following address: Federal Trade Commission, Office of the Secretary, Constitution Center, 400 7th Street SW, 5th Floor, Suite 5610 (Annex D), Washington, DC 20024. If possible, submit your paper comment to the Commission by courier or overnight service.

Because your comment will be placed on the publicly accessible FTC website at https://www.ftc.gov, you are solely responsible for making sure that your comment does not include any sensitive or confidential information. In particular, your comment should not include any sensitive personal information, such as your or anyone else's Social Security number; date of birth; driver's license number or other state identification number, or foreign country equivalent; passport number; financial account number; or credit or debit card number. You are also solely responsible for making sure that your comment does not include any sensitive health information, such as medical records or other individually identifiable health information. In addition, your comment should not include any “trade secret or any commercial or financial information which . . . is privileged or confidential”—as provided by Section 6(f) of the FTC Act, 15 U.S.C. 46(f), and FTC Rule 4.10(a)(2), 16 CFR 4.10(a)(2)—including in particular competitively sensitive information such as costs, sales statistics, inventories, formulas, patterns, devices, manufacturing processes, or customer names.

Comments containing material for which confidential treatment is requested must be filed in paper form, must be clearly labeled “Confidential,” and must comply with FTC Rule 4.9(c). In particular, the written request for confidential treatment that accompanies the comment must include the factual and legal basis for the request, and must identify the specific portions of the comment to be withheld from the public record. See FTC Rule 4.9(c). Your comment will be kept confidential only if the General Counsel grants your request in accordance with the law and the public interest. Once your comment has been posted on the public FTC website—as legally required by FTC Rule 4.9(b)—we cannot redact or remove your comment from the FTC website, unless you submit a confidentiality request that meets the requirements for such treatment under FTC Rule 4.9(c), and the General Counsel grants that request.

Visit the FTC website at http://www.ftc.gov to read this Notice and the news release describing it. The FTC Act and other laws that the Commission administers permit the collection of public comments to consider and use in this proceeding, as appropriate. The Commission will consider all timely and responsive public comments that it receives on or before February 23, 2018. For information on the Commission's privacy policy, including routine uses permitted by the Privacy Act, see https://www.ftc.gov/site-information/privacy-policy.

Analysis of Proposed Consent Order To Aid Public Comment

The Federal Trade Commission (“FTC” or “Commission”) has accepted, subject to final approval, an agreement containing a consent order from Bollman Hat Company and SaveAnAmericanJob, LLC, jointly d/b/a American Made Matters (“respondents”).

The proposed consent order has been placed on the public record for thirty (30) days for receipt of comments by interested persons. Comments received during this period will become part of the public record. After thirty (30) days, the Commission will again review the agreement and the comments received, and will decide whether it should withdraw from the agreement or make final the agreement's proposed order.

This matter involves respondents' marketing, sale, and distribution of hats with claims that the products are of U.S.-origin, and respondents' marketing, sale, and distribution of memberships in their “American Made Matters” (“AMM”) program to companies wishing to make U.S.-origin claims for their products.

According to the FTC's complaint, respondents represented that their products are “Made in USA.” In fact, many of the respondents' hats are wholly imported, and others contain significant imported content. Therefore, this representation was false or misleading.

The complaint further alleges that the AMM seal represents by implication that respondents' products have been endorsed or certified by an independent third party. AMM, however, is a fictitious name for respondents, who created the AMM seal and use it in connection with the sale of their own products. Therefore, these representations were false or misleading.

The complaint next alleges that respondents made implied claims that products and entities using their AMM seal were independently and objectively evaluated for compliance with respondents' certification standard. These claims were false or misleading.

Finally, the complaint alleges that respondents claimed that all AMM members sell products that are all or virtually all made in the United States. Because respondents awarded the AMM certification to any company that self-certified that at least 50% of the cost of one of their products was incurred in the United States, with final assembly or transformation in the United States, this claim was false or misleading, or unsubstantiated at the time it was made.

Based on the foregoing, the complaint alleges that respondents engaged in deceptive acts or practices in violation of Section 5(a) of the FTC Act.

The proposed consent order contains provisions designed to prevent respondents from engaging in similar acts and practices in the future. Consistent with the FTC's Enforcement Policy Statement on U.S. Origin Claims, Part I prohibits respondents from making U.S.-origin claims for their products unless either: (1) The final assembly or processing of the product occurs in the United States, all significant processing that goes into the product occurs in the United States, and all or virtually all ingredients or components of the product are made and sourced in the United States; or (2) a clear and conspicuous qualification appears immediately adjacent to the representation that accurately conveys the extent to which the product contains foreign parts, ingredients or components, and/or processing.

Part II prohibits respondents from making any representation about any user or endorser of any product, package, certification, service, practice, or program, unless respondents disclose clearly and conspicuously any material connection between a user or endorser and (1) respondents or (2) any other individual or entity affiliated with the product or service.

Part III prohibits respondents from representing, expressly or by implication, that a product or service meets respondents' certification standard, unless: (1) An entity with no material connection to that covered entity conducted an independent and objective evaluation to confirm that the certification standard was met; or (2) respondents' certification and marketing materials disclose clearly and conspicuously that the certification standard may be met through self-certification.

Part IV prohibits respondents from making any country-of-origin claim about a product or service unless the claim is true, not misleading, and respondents have a reasonable basis substantiating the representation. In the alternative, for country-of-origin representations made through AMM marketing materials, respondents may make such claims if (1) they neither know or have reason to know that the self-certification is misleading, and (2) disclose clearly and prominently that products or services meet the certification standard through self-certification.

Part V prohibits respondents from providing third parties with the means and instrumentalities to make the claims prohibited in Parts I, III, or IV.

Parts VI through IX are reporting and compliance provisions. Part VI requires respondents to acknowledge receipt of the order, to provide a copy of the order to certain current and future principals, officers, directors, and employees, and to obtain an acknowledgement from each such person that they have received a copy of the order. Part VII requires the filing of compliance reports within one year after the order becomes final and within 14 days of any change that would affect compliance with the order. Part VIII requires respondents to maintain certain records, including records necessary to demonstrate compliance with the order. Part IX requires respondents to submit additional compliance reports when requested by the Commission and to permit the Commission or its representatives to interview respondents' personnel.

Finally, Part X is a “sunset” provision, terminating the order after twenty (20) years, with certain exceptions.

The purpose of this analysis is to aid public comment on the proposed order. It is not intended to constitute an official interpretation of the proposed order or to modify its terms in any way.

By direction of the Commission.
Donald S. Clark,
Secretary.

[FR Doc. 2018-01546 Filed 1-26-18; 8:45 am]

BILLING CODE 6750-01-P